DEPARTMENT OF TRANSPORTATION

Federal Aviation Administration

14 CFR Part 39

[Docket No. FAA-2004-18033; Directorate Identifier 2004-CE-16-AD]

RIN 2120-AA64

Airworthiness Directives; Cessna Aircraft Company Models 190, 195, 195A, and 195B Airplanes

AGENCY: Federal Aviation Administration (FAA), DOT.

ACTION: Notice of proposed rulemaking (NPRM).

SUMMARY: The FAA proposes to adopt a new airworthiness directive (AD) for all Cessna Aircraft Company (Cessna) Models 190, 195, 195A, and 195B airplanes that are equipped with certain inboard aileron hinge brackets. This proposed AD would require you to repetitively inspect the affected inboard aileron hinge brackets for cracks or corrosion and replace them if found cracked or corroded with brackets that are not made from magnesium. Replacement would terminate the need for the repetitive inspections. This proposed AD is the result of several reports of cracks and corrosion found on the magnesium aileron hinge brackets. Magnesium is known to be susceptible to corrosion. We are issuing this proposed AD to detect and correct corrosion damage to the inboard aileron hinge brackets. Such damage could result in the brackets cracking across the bearing boss and could lead to the aileron separating from the airplane with consequent reduced or loss of control of the airplane.

DATES: We must receive any comments on this proposed AD by September 10, 2004.

ADDRESSES: Use one of the following to submit comments on this proposed AD:

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street, SW., Nassif Building, Room PL-401, Washington, DC 20590-001.

• Fax: 1-202-493-2251.

• Hand Delivery: Room PL-401 on the plaza level of the Nassif Building, 400 Seventh Street, SW., Washington, DC, between 9 a.m. and 5 p.m., Monday through Friday, except Federal holidays.

You may get the service information identified in this proposed AD from Cessna Aircraft Company, Product Support P.O. Box 7706, Wichita, Kansas 67277; telephone: (316) 517-5800; facsimile: (316) 942-9006.

You may view the comments to this proposed AD in the AD docket on the Internet at http://dms.dot.gov.

FOR FURTHER INFORMATION CONTACT: Gary D. Park, Aerospace Engineer, FAA, Wichita Aircraft Certification Office, 1801 Airport Road, Room 100, Mid-Continent Airport, Wichita, Kansas 67209; telephone: (316) 946-4123; facsimile: (316) 946-4107.

SUPPLEMENTARY INFORMATION:

Comments Invited

How do I comment on this proposed AD? We invite you to submit any written relevant data, views, or arguments regarding this proposal. Send your comments to an address listed under ADDRESSES. Include the docket number, “FAA-2004-18033; Directorate Identifier 2004-CE-16-AD” at the beginning of your comments. We will post all comments we receive, without change, to http://dms.dot.gov, including any personal information you provide. We will also post a report summarizing each substantive verbal contact with FAA personnel concerning this proposed rulemaking. Using the search function of our docket Web site, anyone can find and read the comments received into any of our dockets, including the name of the individual who sent the comment (or signed the comment on behalf of an association, business, labor union, etc.). This is docket number FAA-2004-18033. You may review the DOT's complete Privacy Act Statement in the Federal Register published on April 11, 2000 (65 FR 19477-78) or you may visit http://dms.dot.gov.

Are there any specific portions of this proposed AD I should pay attention to? We specifically invite comments on the overall regulatory, economic, environmental, and energy aspects of this proposed AD. If you contact us through a nonwritten communication and that contact relates to a substantive part of this proposed AD, we will summarize the contact and place the summary in the docket. We will consider all comments received by the closing date and may amend this proposed AD in light of those comments and contacts.

Docket Information

Where can I go to view the docket information? You may view the AD docket that contains the proposal, any comments received, and any final disposition in person at the DMS Docket Offices between 9 a.m. and 5 p.m. (eastern standard time), Monday through Friday, except Federal holidays. The Docket Office (telephone 1-800-647-5227) is located on the plaza level of the Department of Transportation NASSIF Building at the street address stated in ADDRESSES. You may also view the AD docket on the Internet at http://dms.dot.gov. The comments will be available in the AD docket shortly after the DMS receives them.

Discussion

What events have caused this proposed AD? The FAA has received several reports of cracks and corrosion on part number (P/N) 0322709 and P/N 0322709-1 inboard aileron hinge brackets on Cessna Models 190, 195, 195A, and 195B airplanes. These inboard aileron hinge brackets are constructed of magnesium, which is highly susceptible to corrosion.

When corrosion starts to develop, the inboard aileron hinge brackets could crack across the bearing boss.

What is the potential impact if FAA took no action? Cracked or corroded inboard aileron hinge brackets, if not detected and corrected, could result in the ailerons separating from the airplane with consequent reduced or loss of control of the airplane.

Is there service information that applies to this subject? Cessna has issued Single Engine Service Bulletin SEB04-1, dated April 26, 2004.

What are the provisions of this service information? The service bulletin includes procedures for:

—Inspecting the P/N 0322709 and P/N 0322709-1 inboard aileron hinge brackets for cracks or corrosion; and

—Replacing any bracket found cracked or corroded with a bracket that is FAA-approved and made from aluminum.

FAA's Determination and Requirements of this Proposed AD

What has FAA decided? We have evaluated all pertinent information and identified an unsafe condition that is likely to exist or develop on other products of this same type design. Therefore, we are proposing AD action.

What would this proposed AD require? This proposed AD would require you to repetitively inspect the affected inboard aileron hinge brackets for cracks or corrosion and replace them if found cracked or corroded with brackets that are not made from magnesium. Replacement would terminate the need for the repetitive inspections.

How does the revision to 14 CFR part 39 affect this proposed AD? On July 10, 2002, we published a new version of 14 CFR part 39 (67 FR 47997, July 22, 2002), which governs FAA's AD system. This regulation now includes material that relates to altered products, special flight permits, and alternative methods of compliance. This material previously was included in each individual AD. Since this material is included in 14 CFR part 39, we will not include it in future AD actions.

Costs of Compliance

How many airplanes would this proposed AD impact? We estimate that this proposed AD affects 1,180 airplanes in the U.S. registry.

What would be the cost impact of this proposed AD on owners/operators of the affected airplanes? We estimate the following costs to accomplish this proposed inspection:

Labor cost | Parts cost | Total cost per airplane | Total cost on U.S. operators
1 workhour × $65 per hour = $65 | No special parts necessary for inspection | $65 per airplane | 1,180 airplanes × $65 = $76,700.

We estimate the following costs to accomplish any necessary replacements that would be required based on the results of this proposed inspection. We have no way of determining the number of airplanes that may need this replacement:

Labor cost | Parts cost | Total cost per airplane
6 workhours × $65 per hour = $390 | $2,954 | $3,344 per airplane.

Regulatory Findings

Would this proposed AD impact various entities? We have determined that this proposed AD would not have federalism implications under Executive Order 13132. This proposed AD would not have a substantial direct effect on the States, on the relationship between the national Government and the States, or on the distribution of power and responsibilities among the various levels of government.

Would this proposed AD involve a significant rule or regulatory action? For the reasons discussed above, I certify that this proposed AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a summary of the costs to comply with this proposed AD and placed it in the AD Docket. You may get a copy of this summary by sending a request to us at the address listed under ADDRESSES. Include “AD Docket FAA-2004-18033; Directorate Identifier 2004-CE-16-AD” in your request.

List of Subjects in 14 CFR Part 39

Air transportation, Aircraft, Aviation safety, Safety.

The Proposed Amendment

Accordingly, under the authority delegated to me by the Administrator, the Federal Aviation Administration proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Cessna Aircraft Company: Docket No. FAA-2004-18033; Directorate Identifier 2004-CE-16-AD.

When Is the Last Date I Can Submit Comments on This Proposed AD?

(a) We must receive comments on this proposed airworthiness directive (AD) by September 10, 2004.

What Other ADs Are Affected by This Action?

(b) None.

What Airplanes Are Affected by This AD?

(c) This AD affects Models 190, 195, 195A, and 195B airplanes, all serial numbers, that are:

(1) certificated in any category; and

(2) equipped with at least one part number (P/N) 0322709 or P/N 0322709-1 inboard aileron hinge bracket.

What Is the Unsafe Condition Presented in This AD?

(d) This AD is the result of several reports of cracks and corrosion found on the magnesium aileron hinge brackets. Magnesium is known to be susceptible to corrosion. We are issuing this AD to detect and correct corrosion damage to the inboard aileron hinge brackets. Such damage could result in the brackets cracking across the bearing boss and could lead to the aileron separating from the airplane with consequent reduced or loss of control of the airplane.

What Must I do To Address This Problem?

(e) To address this problem, you must do the following:

Actions | Compliance | Procedures
(1) Inspect each P/N 0322709 and P/N 0322709-1 inboard aileron hinge bracket for cracks or corrosion | Initially inspect within the next 100 hours time-in-service (TIS) after the effective date of this AD, unless already done. Repetitively inspect thereafter at intervals not to exceed 100 hours TIS until each bracket is replaced with an FAA-approved bracket that is not made with magnesium, as specified in the service information | Follow the procedures in Cessna Single Engine Service Bulletin SEB04-1, dated April 26, 2004.
(2) Replace any cracked or corroded inboard aileron hinge bracket with an FAA-approved bracket, as specified in the service information | Prior to further flight after any inspection where any cracked or corroded bracket is found. You may terminate the repetitive inspections required by this AD when all brackets are replaced with FAA-approved brackets that are not made with magnesium, as specified in the service information | Follow the procedures in Cessna Single Engine Service Bulletin SEB04-1, dated April 26, 2004.
(3) You may replace all inboard aileron hinge brackets (as specified in paragraph (e)(2) of this AD) regardless if any corrosion or crack is found as terminating action for the repetitive inspeciton requirement of this AD | You may do this replacement at any time, but you must replace any corroded or cracked bracket prior to further flight after the applicable inspection where any corrosion or crack is found | Follow the procedures in Cessna Single Engine Service Bulletin SEB04-1, dated April 26, 2004.
(4) Do not install any P/N 0322709 or P/N 0322709-1 inboard aileron hinge bracket; or any other inboard aileron hinge bracket made with magnesium | As of the effective date of this AD | Not applicable.

May I Request an Alternative Method of Compliance?

(f) You may request a different method of compliance or a different compliance time for this AD by following the procedures in 14 CFR 39.19. Unless FAA authorizes otherwise, send your request to your principal inspector. The principal inspector may add comments and will send your request to the Manager, Wichita Aircraft Certification Office, FAA. For information on any already approved alternative methods of compliance, contact Gary D. Park, Aerospace Engineer, FAA, Wichita Aircraft Certification Office, 1801 Airport Road, Room 100, Mid-Continent Airport, Wichita, Kansas 67209; telephone: (316) 946-4123; facsimile: (316) 946-4107.

May I Get Copies of the Documents Referenced in This AD?

(g) You may get copies of the documents referenced in this AD Cessna Aircraft Company, Product Support P.O. Box 7706, Wichita, Kansas 67277; telephone: (316) 517-5800; facsimile: (316) 942-9006. You may view the AD docket at the Docket Management Facility; U.S. Department of Transportation, 400 Seventh Street, SW., Nassif Building, Room PL-401, Washington, DC, or on the Internet at http://dms.dot.gov.

Issued in Kansas City, Missouri, on July 9, 2004.
James E. Jackson,
Acting Manager, Small Airplane Directorate, Aircraft Certification Service.

[FR Doc. 04-16098 Filed 7-14-04; 8:45 am]

BILLING CODE 4910-13-P